DEPARTMENT OF ENERGY

Federal Energy Regulatory Commission

[Project No. 2333-094]

Rumford Falls Hydro LLC; Notice of Availability of Draft Environmental Assessment

In accordance with the National Environmental Policy Act of 1969 and the Federal Energy Regulatory Commission's (Commission) regulations, 18 CFR part 380, the Office of Energy Projects has reviewed the application for license for the Rumford Falls Hydroelectric Project, located on the Androscoggin River in the Town of Rumford, Oxford County, Maine and has prepared a Final Environmental Assessment (FEA) for the project. No federal land is occupied by project works or located within the project boundary.

The FEA contains staff's analysis of the potential environmental impacts of the project and concludes that licensing the project, with appropriate environmental protective measures, would not constitute a major federal action that would significantly affect the quality of the human environment.

The Commission provides all interested persons with an opportunity to view and/or print the FEA via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/eSubscription.aspx to be notified via email of new filings and issuances related to this or other pending projects. For assistance, contact FERC Online Support.

Any questions regarding this notice may be directed to Ryan Hansen at (202) 502-8074 or ryan.hansen@ferc.gov.

Dated: August 13, 2024.
Debbie-Anne A. Reese,
Acting Secretary.

[FR Doc. 2024-18528 Filed 8-16-24; 8:45 am]

BILLING CODE 6717-01-P